DEPARTMENT OF AGRICULTURE

National Institute of Food and Agriculture

7 CFR Part 3430

[0524-AA64]

Competitive and Noncompetitive Nonformula Federal Assistance Programs—Administrative Provisions for the Sun Grant Program

AGENCY: National Institute of Food and Agriculture, USDA.

ACTION: Interim rule and request for comments.

SUMMARY: The National Institute of Food and Agriculture (NIFA), formerly the Cooperative State Research, Education, and Extension Service (CSREES), is publishing a set of specific administrative requirements as subpart O to 7 CFR part 3430 for the Sun Grant Program to supplement the Competitive and Noncompetitive Non-formula Federal Assistance Programs—General Award Administrative Provisions for this program. The Sun Grant Program is authorized under section 7526 of the Food, Conservation, and Energy Act of 2008 (FCEA).

DATES: This interim rule is effective on November 18, 2010. The Agency must receive comments on or before March 18, 2011.

ADDRESSES: You may submit comments, identified by Regulatory Information Number (RIN) 0524-AA64, by any of the following methods:

Federal eRulemaking Portal: http://www.regulations.gov. Follow the instructions for submitting comments.

E-mail: policy@NIFA.usda.gov. Include RIN 0524-AA64 in the subject line of the message.

Fax: 202-401-7752.

Mail: Paper, disk or CD-ROM submissions should be submitted to National Institute of Food and Agriculture; U.S. Department of Agriculture; STOP 2299; 1400 Independence Avenue, SW.; Washington, DC 20250-2299.

Hand Delivery/Courier: National Institute of Food and Agriculture; U.S. Department of Agriculture; Room 2255, Waterfront Centre; 800 9th Street, SW.; Washington, DC 20024.

Instructions: All comments submitted must include the agency name and the RIN for this rulemaking. All comments received will be posted without change to http://www.regulations.gov, including any personal information provided.

FOR FURTHER INFORMATION CONTACT: Carmela Bailey, National Program Leader, Plant and Animal Systems, National Institute of Food and Agriculture, U.S. Department of Agriculture, STOP 3356, 1400 Independence Avenue, Washington, DC 20250-3356; Voice: 202-401-6443; Fax: 202-401-4888; E-mail: cbailey@NIFA.usda.gov.

SUPPLEMENTARY INFORMATION:

I. Background and Summary

Authority

Section 7526 of the Food, Conservation, and Energy Act of 2008 (FCEA), Public Law 110-246 (7 U.S.C. 8114), provides authority to the Secretary of Agriculture (Secretary) to establish and carry out the Sun Grant Program under which grants are provided to Sun Grant Centers (hereafter, the Center(s)) and a Subcenter (as designated in section 7526(b)(1)(A)-(F) of the FCEA) for the purpose of subawarding 75 percent of USDA-awarded funds through a regional competitive grants program administered by the Centers and Subcenter to fund multi-institutional and multistate research, extension, and education programs on technology development and integrated research, extension, and education programs on technology implementation, in accordance with the purpose and priorities as described in section 7526. The Centers and Subcenter will utilize the remaining balance of USDA-awarded funds (after using up to 4 percent of the USDA-awarded funds for the administrative expenses of carrying out the regional competitive grants program) to conduct such programs at the respective Center or the Subcenter. Additionally, section 7526(d) of the FCEA requires the Centers and Subcenter to jointly develop and submit to the Secretary for approval a plan for addressing the bioenergy, biomass, and gasification research priorities of USDA and the Department of Energy at the State and regional levels. With respect to gasification research activities, the Centers and Subcenter are required to coordinate planning with land-grant colleges and universities in their respective regions that have ongoing research activities in that area. The Centers and Subcenter must use the approved plan in making grants and must give priority to programs that are consistent with the plan.

Section 7526(e) of the FCEA also requires the Centers and Subcenter to maintain, at the North-Central Center, a Sun Grant Information Analysis Center to provide the Centers and Subcenter with analysis and data management support.

The USDA authority to carry out this program has been delegated to NIFA through the Under Secretary for Research, Education, and Economics.

Purpose

The objectives of the Sun Grant Program are to enhance national energy security through the development, distribution, and implementation of biobased energy technologies; to promote diversification in, and the environmental sustainability of, agricultural production in the United States through biobased energy and product technologies; to promote economic diversification in rural areas of the United States through biobased energy and product technologies; and to enhance the efficiency of bioenergy and biomass research and development programs through improved coordination and collaboration among USDA, the Department of Energy, and land-grant colleges and universities.

Organization of 7 CFR Part 3430

A primary function of NIFA is the fair, effective, and efficient administration of Federal assistance programs implementing agricultural research, education, and extension programs. As noted above, NIFA has been delegated the authority to administer this program and will be issuing Federal assistance awards for funding made available for this program; and thus, awards made under this authority will be subject to the Agency's assistance regulations at 7 CFR part 3430, Competitive and Noncompetitive Non-formula Federal Assistance Programs—General Award Administrative Provisions. The Agency's development and publication of these regulations for its non-formula Federal assistance programs serve to enhance its accountability and to standardize procedures across the Federal assistance programs it administers while providing transparency to the public. NIFA published 7 CFR part 3430 with subparts A through F as an interim rule on August 1, 2008 [73 FR 44897-44909] and as a final rule on September 4, 2009 [74 FR 45736-45752]. These regulations apply to all Federal assistance programs administered by NIFA except for the formula grant programs identified in 7 CFR 3430.1(f), the Small Business Innovation Research programs, with implementing regulations at 7 CFR part 3403, and the Veterinary Medicine Loan Repayment Program (VMLRP) authorized under section 1415A of the National Agricultural Research, Extension, and Teaching Policy Act of 1977 (NARETPA), with implementing regulations at 7 CFR part 3431.

NIFA organized the regulation as follows: Subparts A through E provide administrative provisions for all competitive and noncompetitive non-formula Federal assistance awards. Subparts F and thereafter apply to specific NIFA programs.

NIFA is, to the extent practical, using the following subpart template for each program authority: (1) Applicability of regulations, (2) purpose, (3) definitions (those in addition to or different from § 3430.2), (4) eligibility, (5) project types and priorities, (6) funding restrictions (including indirect costs), and (7) matching requirements. Subparts F and thereafter contain the above seven components in this order. Additional sections may be added for a specific program if there are additional requirements or a need for additional rules for the program (e.g., additional reporting requirements).

Through this rulemaking, NIFA is adding subpart O for the administrative provisions that are specific to the Federal assistance awards made under the Sun Grant Program authority.

Timeline for Implementing Regulations

NIFA is publishing this rule as an interim rule with a 120-day comment period and anticipates publishing a final rule by June 20, 2011. However, in the interim, these regulations apply to the Federal assistance awards made under the Sun Grant Program authority.

II. Administrative Requirements for the Proposed Rulemaking

Executive Order 12866

This action has been determined to be not significant for purposes of Executive Order 12866, and therefore, has not been reviewed by the Office of Management and Budget. This interim rule will not create a serious inconsistency or otherwise interfere with an action taken or planned by another agency; nor will it materially alter the budgetary impact of entitlements, grants, user fees, or loan programs; nor will it have an annual effect on the economy of $100 million or more; nor will it adversely affect the economy, a sector of the economy, productivity, competition, jobs, the environment, public health or safety, or State, local, or tribal governments or communities in a material way. Furthermore, it does not raise a novel legal or policy issue arising out of legal mandates, the President's priorities or principles set forth in the Executive Order.

Regulatory Flexibility Act of 1980

This interim rule has been reviewed in accordance with the Regulatory Flexibility Act of 1980, as amended by the Small Business Regulatory Enforcement Fairness Act of 1996, 5 U.S.C. 601-612. The Department concluded that the rule will not have a significant economic impact on a substantial number of small entities. The rule does not involve regulatory and informational requirements regarding businesses, organizations, and governmental jurisdictions subject to regulation.

Paperwork Reduction Act (PRA)

The Department certifies that this interim rule has been assessed in accordance with the requirements of the Paperwork Reduction Act, 44 U.S.C. 3501 et seq. (PRA). The Department concludes that this interim rule does not impose any new information requirements; however, the burden estimates will increase for existing approved information collections associated with this rule due to additional applicants. These estimates will be provided to OMB. In addition to the SF-424 form families (i.e., Research and Related and Mandatory), and the SF-425 Federal Financial Report; NIFA has three currently approved OMB information collections associated with this rulemaking: OMB Information Collection No. 0524-0042, NIFA Current Research Information System (CRIS); No. 0524-0041, NIFA Application Review Process; and No. 0524-0026, Assurance of Compliance with the Department of Agriculture Regulations Assuring Civil Rights Compliance and Organizational Information.

Catalog of Federal Domestic Assistance

This interim regulation applies to the Federal assistance program administered by NIFA under the Catalog of Federal Domestic Assistance (CFDA) No. 10.320, Sun Grant Program.

Unfunded Mandates Reform Act of 1995 and Executive Order 13132

The Department has reviewed this interim rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or tribal governments, or by the private sector, the Department has not prepared a budgetary impact statement.

Executive Order 13175: Consultation and Coordination With Indian Tribal Governments

The Department has reviewed this interim rule in accordance with Executive Order 13175, and has determined that it does not have “tribal implications.” The interim rule does not “have substantial direct effects on one or more Indian tribes, on the relationship between the Federal Government and Indian tribes, or on the distribution of power and responsibilities between the Federal Government and Indian tribes.”

Clarity of This Regulation

Executive Order 12866 and the President's Memorandum of June 1, 1998, require each agency to write all rules in plain language. The Department invites comments on how to make this interim rule easier to understand.

List of Subjects in 7 CFR Part 3430

Administrative practice and procedure, Agricultural research, Education, Extension, Federal assistance.

Accordingly, Chapter XXXIV of Title 7 of the Code of Federal Regulations is amended as set forth below:

PART 3430—COMPETITIVE AND NONCOMPETITIVE NON-FORMULA FEDERAL ASSISTANCE PROGRAMS—GENERAL AWARD ADMINISTRATIVE PROVISIONS

1. The authority for part 3430 continues to read as follows:

Authority: 7 U.S.C. 3316; Pub. L. 106-107 (31 U.S.C. 6101 note).

Subpart N—[Added and Reserved]

2. Add and reserve subpart N.

3. Add a new subpart O, to read as follows:

Subpart O—Sun Grant Program
Sec.
3430.1000 Applicability of regulations.
3430.1001 Purpose.
3430.1002 Definitions.
3430.1003 Eligibility.
3430.1004 Project types and priorities.
3430.1005 Funding restrictions.
3430.1006 Matching requirements.
3430.1007 Planning activities.
3430.1008 Sun Grant Information Analysis Center.
3430.1009 Administrative duties.
3430.1010 Review criteria.
3430.1011 Duration of awards.

Subpart O—Sun Grant Program

§ 3430.1000 Applicability of regulations.

The regulations in this subpart apply to the Federal assistance awards made under the program authorized under section 7526 of the Food, Conservation, and Energy Act of 2008 (FCEA), Pub. L. 110-246 (7 U.S.C. 8114).

§ 3430.1001 Purpose.

In carrying out the program, NIFA is authorized to make awards under section 7526 of the FCEA to eligible entities (as designated in section 7526(b)(1)(A)-(F) of the FCEA) to fund subgrants and activities that:

(a) Enhance national energy security through the development, distribution, and implementation of biobased energy technologies;

(b) Promote diversification in, and the environmental sustainability of, agricultural production in the United States through biobased energy and product technologies;

(c) Promote economic diversification in rural areas of the United States through biobased energy and product technologies; and

(d) Enhance the efficiency of bioenergy and biomass research and development programs through improved coordination and collaboration among the Department, the Department of Energy, and land-grant colleges and universities.

§ 3430.1002 Definitions.

The definitions specific to the Sun Grant Program are from the authorizing legislation, the National Program Leadership of NIFA, and the Department of Energy. The definitions applicable to the program under this subpart include:

Biobased product means:

(1) An industrial product (including chemicals, materials, and polymers) produced from biomass; or

(2) A commercial or industrial product (including animal feed and electric power) derived in connection with the conversion of biomass to fuel.

Bioenergy means power generated in the form of electricity or heat using biomass as a feedstock.

Center means a Sun Grant Center identified in § 3430.1003(a)(1) through (5).

Gasification means a process that converts carbonaceous materials, such as biomass, into carbon monoxide and hydrogen by reacting the raw material, high temperatures with a controlled amount of oxygen and/or steam.

Subcenter means the Sun Grant Subcenter identified in § 3430.1003(a)(6).

Technology development means the process of research and development of technology.

Technology implementation means the introduction of new technologies to either an existing organization, or to a larger community, such as a type of business.

§ 3430.1003 Eligibility.

(a) Sun Grant Centers and Subcenter. NIFA will use amounts appropriated for the Sun Grant Program to provide grants to the following five Centers and one Subcenter:

(1) A North-Central Center at South Dakota State University for the region composed of the States of Illinois, Indiana, Iowa, Minnesota, Montana, Nebraska, North Dakota, South Dakota, Wisconsin, and Wyoming;

(2) A Southeastern Center at the University of Tennessee at Knoxville for the region composed of the States of Alabama, Florida, Georgia, Kentucky, Mississippi, North Carolina, South Carolina, Tennessee, and Virginia, the Commonwealth of Puerto Rico, and the United States Virgin Islands;

(3) A South-Central Center at Oklahoma State University for the region composed of the States of Arkansas, Colorado, Kansas, Louisiana, Missouri, New Mexico, Oklahoma, and Texas;

(4) A Northeastern Center at Cornell University for the region composed of the States of Connecticut, Delaware, Massachusetts, Maryland, Maine, Michigan, New Hampshire, New Jersey, New York, Ohio, Pennsylvania, Rhode Island, Vermont, and West Virginia;

(5) A Western Center at Oregon State University for the region composed of the States of Alaska, Arizona, California, Hawaii, Idaho, Nevada, Oregon, Utah, and Washington, and insular areas (other than the Commonwealth of Puerto Rico and the United States Virgin Islands); and

(6) A Western Insular Pacific Subcenter at the University of Hawaii (that receives Federal funds through the Western Center rather than directly from NIFA, in accordance with § 3430.1004(b)) for the region of Alaska, Hawaii, Guam, American Samoa, the Commonwealth of the Northern Mariana Islands, the Federated States of Micronesia, the Republic of the Marshall Islands, and the Republic of Palau.

(b) Subawardees of the Centers and Subcenter. To be eligible for a subaward from a Center or Subcenter pursuant to § 3430.1004(a)(1), an applicant:

(1) Must be located in the region covered by the applicable Center or Subcenter; and

(2) Must be one of the following:

(i) State agricultural experiment station;

(ii) College or university;

(iii) University research foundation;

(iv) Other research institution or organization;

(v) Federal agency;

(vi) National laboratory;

(vii) Private organization or corporation;

(viii) Individual; or

(ix) Any group consisting of 2 or more entities described in paragraphs (b)(2)(i) through (viii) of this section.

(c) Ineligibility. A Center or Subcenter will be ineligible for funding under the Sun Grant Program if NIFA determines on the basis of an audit or a review of a report submitted under § 3430.1009 that the Center or Subcenter has not complied with the requirements of section 7526 of the FCEA (7 U.S.C. 8114). A Center or Subcenter determined to be ineligible pursuant to this paragraph will remain ineligible for such period of time as deemed appropriate by NIFA. This ineligibility requirement is in addition to the enforcement actions that NIFA may take pursuant to § 3430.60.

§ 3430.1004 Project types and priorities.

(a) Project types. The Sun Grant Program provides funds for two distinct project types. Subject to paragraph (b), of the funds provided by NIFA to the Centers and Subcenter, the required use of funds by each of the Centers and the Subcenter is as follows:

(1) Regional competitive research, extension, and education grant programs. Seventy-five percent must be used for regional competitively awarded research, extension, and education subgrants to eligible entities (described in § 3430.1003(b)) to conduct, in a manner consistent with the purposes described in § 3430.1001, multi-institutional and multistate research, extension, and education programs on technology development and multi-institutional and multistate integrated research, extension, and education programs on technology implementation. Regional competitive grants programs will target specific elements of the purposes described in § 3430.1001, implementing national priorities in the context of regional scale biogeographic and climatic conditions.

(i) Requests for applications. The Centers and Subcenter must develop regional requests for applications (RFAs) utilizing guidance from regional advisory panels created and administered by the Centers and Subcenter for purposes of addressing region-specific issues, and which include representation from academia, the national laboratories, Federal and State agencies, the private sector, and public interest groups. Advisory panel members will have appropriate expertise and experience in the areas of biomass and bioenergy.

(ii) Peer review of proposals. Each region will announce RFAs and solicit proposals. These proposals must be peer reviewed by panels in a manner similar to the system of peer review required by section 103 of the Agricultural Research, Extension, and Education Reform Act of 1998 (7 U.S.C. 7613), and may include representation from Federal and State laboratories, the national laboratories, and private and public interest groups, as appropriate. The Centers and Subcenter may use implementing regulations found in §§ 3430.31 through 3430.37 as a guideline for appropriate peer review standards. Additional guidance may be provided by NIFA. To ensure consistency across the regions, prior to announcing the regional RFAs that will be used to solicit proposals, the Centers and Subcenter must provide NIFA the RFAs for approval by the designated NIFA program contact, as identified in the NIFA program solicitation. The Centers and Subcenter shall award subgrants on the basis of merit, quality, and relevance to advancing the purposes of the Sun Grant Program.

(2) Research, extension, and education activities conducted at the Centers and Subcenter. Except for funds available for administrative expenses as provided in § 3430.1005(b), the remainder of the funds must be used for multi-institutional and multistate research, extension, and education programs on technology development and multi-institutional and multistate integrated research, extension, and education programs on technology implementation, in a manner consistent with the purposes described in § 3430.1001.

(b) Special provisions for the Western Center and Western Insular Pacific Subcenter. Funds provided by NIFA to the Western Insular Pacific Subcenter shall come from an allocation of a portion of the funds received by the Western Center, as directed by NIFA in the program solicitation, rather than directly from NIFA. For the Center, the phrase “funds provided by NIFA” in paragraph (a) of this section refers to those funds provided by NIFA for the Sun Grant Program that are not allocated to the Subcenter. For the Subcenter, the phrase “funds provided by NIFA” in paragraph (a) of this section refers to those funds that are allocated to the Subcenter.

(c) Priorities. For the regional competitive grants program under paragraph (a)(1) of this section, the Centers and Subcenter shall use the plan approved by NIFA under § 3430.1007 in making subawards and shall give a higher priority to proposals that are consistent with the plan.

§ 3430.1005 Funding restrictions.

(a) Facility costs. Funds made available under the Sun Grant Program shall not be used for the construction of a new building or facility or the acquisition, expansion, remodeling, or alteration of an existing building or facility (including site grading and improvement, and architect fees).

(b) Indirect cost provisions for regional competitive research, extension, and education grant programs. Funds provided by NIFA to the Centers and Subcenter for the regional competitive grants program under § 3430.1004(a)(1) may not be used for the indirect costs of awarding the competitive grants. However, up to 4 percent of the total funds provided by NIFA to each of the five Centers and the Subcenter under § 3430.1004 for the Sun Grant Program may be budgeted for administrative costs incurred in awarding the competitive grants.

(c) Indirect cost provisions for research, extension, and education activities conducted at the Centers and Subcenter. Subject to § 3430.54, indirect costs are allowable for the funds provided by NIFA to the Centers and the Subcenter for the research, extension, and education programs under § 3430.1004(a)(2).

(d) Required allocations. Each Center and Subcenter must fund subgrants in a proportion that is a minimum 30 percent for conducting multi-institutional and multistate research, extension, and education programs on technology development; and a minimum 30 percent for conducting integrated multi-institutional and multistate research, extension, and education programs on technology implementation. Each Sun Grant Center must clearly demonstrate a common procedure for ensuring the required allocations are met, and for maintaining documentation of these required percentages for audit purposes.

§ 3430.1006 Matching requirements.

(a) Matching provisions for the Centers and Subcenter. The Centers and the Subcenter are not required to match Federal funds.

(b) Matching provisions for subawards. For subawards made by the Centers or Subcenter through the competitive grants process, not less than 20 percent of the cost of an activity must be matched with funds, including in-kind contributions, from a non-Federal source, by the subawardee.

(1) Exception for fundamental research. This matching requirement does not apply to fundamental research (as defined in § 3430.2).

(2) Special matching provisions for applied research. With prior approval by the NIFA authorized departmental officer (ADO), the Center or Subcenter may reduce or eliminate the matching requirement for applied research (as defined in § 3430.2) if the Center or Subcenter determines that the reduction is necessary and appropriate pursuant to guidance issued by NIFA.

§ 3430.1007 Planning activities.

(a) Required plan. The Centers and Subcenter shall jointly develop and submit to NIFA for approval a plan for addressing the bioenergy, biomass, and gasification research priorities of the Department and the Department of Energy at the State and regional levels. To comply with this requirement, NIFA requires that the proposals from each of the five Centers be of similar format and subject matter and complementary to comprise a national program for purposes of serving as the actual “plan.” Each proposal will present a plan that includes a description of what will be done in common and collectively by the Centers and Subcenter, what each will do as a Center and Subcenter, and how each Center and Subcenter will implement its regional competitive grants program. Proposals submitted to the Sun Grant Program must be sufficiently detailed and of high enough quality and demonstrate adequate evidence of collaboration to meet this requirement. Funds available for administrative costs (see § 3430.1005(b)) may be used to meet this requirement.

(b) Gasification. With respect to gasification research activities, the Centers and Subcenter shall coordinate planning with land-grant colleges and universities in their respective regions that have ongoing research activities in that area.

§ 3430.1008 Sun Grant Information Analysis Center.

The Centers and Subcenter shall maintain, at the North-Central Center, a Sun Grant Information Analysis Center to provide the Centers and Subcenter with analysis and data management support. Each Center and Subcenter shall allocate a portion of the funds available for administrative or indirect costs under § 3430.1005 to maintain the Sun Grant Information Analysis Center.

§ 3430.1009 Administrative duties.

In addition to other reporting requirements agreed to in the terms and conditions of each award, not later than 90 days after the end of each Federal fiscal year, each Center and Subcenter shall submit to NIFA a report that describes the policies, priorities, and operations of the program carried out by the Center or Subcenter during the fiscal year, including the results of all peer and merit review procedures conducted as part of administering the regional competitive research, extension, and educational grant programs; and a description of progress made in facilitating the plan described in § 3430.1007.

§ 3430.1010 Review criteria.

Panel reviewers conducting merit reviews on proposals submitted by the Centers will be instructed to ensure that proposals adequately address the plan developed in accordance with § 3430.1007 for consideration of the relevance and merit of proposals.

§ 3430.1011 Duration of awards.

The term of a Federal assistance award made under the Sun Grant Program shall not exceed 5 years. No-cost extensions of time beyond the maximum award terms will not be considered or granted.

Signed at Washington, DC, August 26, 2010.
Roger Beachy,
Director, National Institute of Food and Agriculture.

[FR Doc. 2010-29103 Filed 11-17-10; 8:45 am]

BILLING CODE 3410-22-P